SMALL BUSINESS ADMINISTRATION

Entrepreneurial Mentoring and Education

AGENCY: Small Business Administration.

ACTION: Request for information.

SUMMARY: President Obama presented a national innovation strategy in September 2009 with a call to action to increase innovation in order to propel sustainable economic growth and create high quality jobs. Of particular importance to this strategy is the focus on the role of high-growth small businesses. At the May 2010 Presidential Summit on Entrepreneurship, President Obama called entrepreneurship “the most powerful force the world has ever known for creating opportunity.”

High-growth companies for the purpose of this request for information—those that have experienced high-growth already and those that have high-growth potential—do not have a precise definition. Some academic literature has focused on companies that double in revenue or employment over a four-year period. Others focus on companies that reach a customer base beyond the confines of geographic proximity (e.g., local businesses like restaurants or dry cleaners) to a “traded” sector (e.g., manufacturing, business services) because that market has more growth potential. Perhaps the simplest definition is businesses that have the potential to grow beyond a certain size—beyond 500 employees or beyond $50 million in revenue or enterprise value.

High-growth, early stage entrepreneurs face long odds; however, certain programmatic initiatives could significantly increase their chances to succeed. Mentoring relationships provide many benefits to a new entrepreneur and, ultimately, to their communities if those new companies have a greater probability of thriving and hiring employees. Similarly, entrepreneurial education geared towards the high-growth community is imperative in reaching a wider audience of potential entrepreneurs and encouraging a sustainable, innovation-based ecosystem.

This RFI is designed to collect input from the public on ideas for creating and leveraging existing entrepreneurial mentoring and education programs for early stage, high-growth companies. One objective of the RFI is to understand how the needs of high-growth companies and entrepreneurs may differ from other businesses. In order to delve into these differences, the first section of the RFI seeks public comments on the best structure for public-private partnerships that can build mentoring networks between new and seasoned entrepreneurs. The second section of the RFI seeks public comments on best practices and program development for building entrepreneurial education programs targeted at preparing new and serial entrepreneurs to lead high-growth companies.

DATES: Comments must be received on or before July 12, 2010.

ADDRESSES: You may submit written comments, identified by SBA docket number SBA-2010-0009, by any of the following methods:

• Federal eRulemaking Portal: http://www.regulations.gov. Follow the instructions for submitting comments.

• Mail: Ellen E. Kim, Senior Advisor, Investment Division, U.S. Small Business Administration, 409 Third Street, SW., Washington, DC 20416.

• Hand Delivery/Courier: Ellen E. Kim, Senior Advisor, Investment Division, U.S. Small Business Administration, 409 Third Street, SW., Washington, DC 20416.

SBA will post all comments on http://www.regulations.gov. If you wish to submit confidential business information (CBI) as defined in the User Notice at http://www.regulations.gov, please submit the information to Ellen Kim, Senior Advisor, Investment Division, U.S. Small Business Administration, 409 Third Street, SW., Washington, DC 20416, or send an e-mail to RFI_Entrepreneurship@sba.gov. Highlight the information that you consider to be CBI and explain why you believe SBA should hold this information as confidential. SBA will review the information and make the final determination whether it will publish the information.

FOR FURTHER INFORMATION CONTACT: Ellen Kim, 202-604-3394.

SUPPLEMENTARY INFORMATION:

A. Background

Small businesses are essential to our nation's economy and its recovery from the recession. Small businesses create two out of every three new jobs in this country; most of those net new jobs come from a smaller sub-segment of companies with very high growth rates. Data shows that these high-growth companies are spread all over the country and across all industries. Nevertheless, first-time and even serial entrepreneurs face many challenges to creating sustainable and high-growth companies. Seven out of ten new employer firms last at least two years, yet only half survive five years. Mentorship and educational/training programs are proven methodologies that increase the likelihood that a first-time entrepreneur will succeed.

The Obama Innovation Strategy lays out several initiatives that indicate a renewed focus on education and training for entrepreneurs. One such initiative is the active role the Federal government has taken in promoting student achievement and careers in STEM (Science, Technology, Engineering, and Math). These subject areas are critical to laying the foundation for the next generation of innovators. Training programs are also aligned with the Innovation Strategy as highlighted by successful support of past Defense Advanced Research Projects Agency (DARPA) initiatives. The U.S. Small Business Administration (SBA) is committed to gathering information from the most knowledgeable sources in industry, academia, foundations, and non-profits in order to focus our efforts on how the government can best foster high-growth companies.

The SBA supports a wide array of entrepreneurial activity through our District Offices, resource partners such as SCORE, Small Business Development Centers, Women's Business Centers, Veteran's Business Outreach Centers, and special initiatives offered in partnership with multiple organizations. These publicly-supported services provide valuable benefits to a full spectrum of communities and industries across the United States. In many instances, SBA also works via informal relationships through speaker engagements, conferences, online resources, print material and other resources to support entrepreneurial education.

B. Request for Information

Responses to this notice are not offers and cannot be accepted by the Government to form a binding contract or issue a grant. Information obtained as a result of this RFI may be used by the government for program planning on a non-attribution basis. Do not include any information that might be considered proprietary or confidential. The SBA is interested in responses that address one or more of the following topics:

Part I: With Respect to Entrepreneurial Mentorship

Successful Mentoring Models

1. What are successful mentoring models that exist today to serve early stage, high-growth companies? (Responses may, but are not required to, touch upon any of the following points.)

(a) How is mentoring targeted to high-growth companies different from mentoring targeted to “main-street” companies?

(b) What are key factors for success?

(c) What is the current scope of mentoring services offered?

(d) Do the mentoring models vary by industry and/or by region?

(e) What is the duration of the mentoring relationship? Frequency of meetings? Long-term support structure?

(f) How are seasoned entrepreneurs recruited to be mentors and what incentives do they need (if any) to stay in a mentoring relationship?

(g) How are early-stage entrepreneurs recruited, and what factors keep them engaged in the mentoring relationship? Do entrepreneurs tend to enlist mentoring services on their own or through other channels (e.g., referrals from investors, associations, etc.)? Are there any criteria for these companies/entrepreneurs to participate in the mentoring program?

(h) What are the characteristics of the mentors and new entrepreneurs that gain the most from participating in a mentoring relationship?

(i) What, if any, guidelines and regulations help ensure effective mentoring relationships?

(2) Describe how mentoring services can complement any comprehensive entrepreneur service strategy.

(3) What is the level of awareness surrounding successful mentoring programs?

(a) What methods of outreach do these programs use?

(4) Please describe what types of mentoring programs have been less than successful.

(a) To the best of your ability, please describe what were the possible reasons or challenges that resulted in less than successful results.

Success Metrics

(5) How do you measure success in an entrepreneurial mentoring relationship?

(a) What are the relevant inputs, outputs, and outcomes for success metrics?

(b) What is the time period needed to measure success?

(6) What is the track record of successful mentoring models that you are aware of?

Program Expansion

(7) What are the constraints to scaling an entrepreneurial mentoring program?

(8) What changes in public policy and research should the Administration consider that would promote increased mentoring of high-growth companies?

(9) Is there any other information regarding entrepreneurial mentoring that would be helpful to the SBA?

Part II: With Respect to Entrepreneurial Education

Successful Educational Models

(10) What are the successful models for teaching entrepreneurship to entrepreneurs preparing to launch high-growth companies? (Responses may, but are not required to, touch upon any of the following points.)

(a) Are existing programs targeted for high school, college, graduate, or mid-career professionals?

(b) At what stage in a company's lifecycle are educational programs most effective and/or most utilized? (e.g., pre-launch, post-launch, after reaching certain revenue targets, etc.)

(c) What is the primary vehicle to teach entrepreneurship? (e.g., one-on-one, group, online, bricks-and-mortar schools, self-paced, etc.)

(d) Which models have been adopted most widely?

(e) What is the track record of successful educational models that you are aware of?

(11) What kinds of entrepreneurial education programs work best at imparting entrepreneurial skills and knowledge?

(12) What is the level of awareness surrounding successful educational programs?

(a) What methods of outreach do these educational programs use?

(13) How can existing educational programs be modified or augmented to encourage increased adoption of entrepreneurial-focused curricula, training, or experiential learning programs?

(14) Please describe what types of entrepreneurial education programs have been less than successful.

(a) To the best of your ability, please describe what were the possible reasons or challenges that resulted in less than successful results.

Success Metrics

(15) What are appropriate metrics for evaluating the success or failure of initiatives to promote entrepreneurship through educational programs?

(16) What is the evidence that specific educational approaches and/or curricula are successful?

(17) What metrics of success are used by the most successful entrepreneurial education programs?

Program Expansion

(18) What are the constraints to scaling an entrepreneurial education program to high-growth entrepreneurs?

(19) How can promising entrepreneurial education programs be adopted more widely?

(20) What changes in public policy and funding should the SBA consider that would promote increased entrepreneurial education?

(21) Beyond entrepreneurial education programs, what else can be done to promote entrepreneurship?

(22) Is there any other information regarding entrepreneurial education that would be helpful to the SBA?

Harry E. Haskins,
Deputy Associate Administrator for Investment.

[FR Doc. 2010-13978 Filed 6-9-10; 8:45 am]

BILLING CODE 8025-01-P